DEPARTMENT OF TRANSPORTATION

Maritime Administration

[Docket Number: MARAD-2001-8952]

Requested Administrative Waiver of the Coastwise Trade Laws

AGENCY: Maritime Administration, Department of Transportation.

ACTION: Invitation for public comments on a requested administrative waiver of the Coastwise Trade Laws for the vessel CHARISMA.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR Part 388 (65 FR 6905; February 11, 2000) that the issuance of the waiver will have an unduly adverse effect on a U.S.-vessel builder or a business that uses U.S.-flag vessels, a waiver will not be granted.

DATES: Submit comments on or before March 29, 2001.

ADDRESSES: Comments should refer to docket number MARAD-2001-8952. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested.

Name of vessel: Charisma. Owner: NAUTECH International, LLC, a Louisiana Corporation.

(2) Size, capacity and tonnage of vessel. According to the applicant: “The vessel is 65 net tons as per the documentation certificate enclosed. Additional measurements are 65 feet in length, 17 feet in breadth and 11 feet in depth noticed by the same certificate.”

(3) Intended use for vessel, including geographic region of intended operation and trade. According to the applicant: “The intended use of the vessel is for executing meetings and executive cruises of 12 persons or less. This usage shall have no effect on the coastwise trade of any person as no charters of this type are currently operating in the proposed areas * * *. The geographic area intended is Lake Pontchartrain and connecting inland waters, Mississippi River as well as the Gulf of Mexico (Texas, Louisiana, Mississippi Alabama and Florida Coasts.”

(4) Date and Place of construction and (if applicable) rebuilding. Date of construction: 1967. Place of construction: Hampshire England, United Kingdom.

(5) A statement on the impact this waiver will have on other commercial passenger vessel operators. According to the applicant: “This proposed operation shall have no effect on other commercial passenger operations. There are no commercially operated executive yacht rentals in the proposed areas of operation. The CHARISMA is an executive yacht. It is the only yacht of this size proposed for charter in the areas indicated. As requested by your item 9 of the MARAD Transmittal we include the following description of existing operators of charter or commercial vessels for hire, none of which are similar in nature to the CHARISMA.

a. Small open fishing boats for two or three passengers with outboard motors.

b. Small oar or pole powered skiffs for bayou cruises in controlled wildlife refuges.

c. Casino boats of 1200 or more passengers.

d. Specially equipped deep sea fishing boats.

e. Harbor Tour Operators of certified vessels with passengers of 100 or more.

f. Government operated Ferryboats for public transportation of passengers and of vehicles.

g. Sailing vessels.”

(6) A statement on the impact this waiver will have on U.S. shipyards. According to the applicant: “This waiver shall have no impact on U.S. Shipyards.” “No shipyards are currently building Motor Vessels of this size or type for this purpose.”

Dated: February 21, 2001.
By Order of the Maritime Administrator.
Joel C. Richard,
Secretary, Maritime Administration.

[FR Doc. 01-4710 Filed 2-26-01; 8:45 am]

BILLING CODE 4910-81-P